FEDERAL MARITIME COMMISSION

46 CFR Part 540

[Docket No. 94-06]

Financial Responsibility Requirements for Nonperformance of Transportation

AGENCY: Federal Maritime Commission.

ACTION: Proceeding discontinued.

SUMMARY: The Federal Maritime Commission (“Commission”) published a Notice of Proposed Rulemaking (“NPR”) in 1994 and a Further Notice of Proposed Rulemaking (“FNPR”) in 1996 that proposed to amend its financial responsibility requirements applicable to passenger vessel operators (“PVOs”) for nonperformance of transportation. A number of comments were received to the FNPR. Given significant changes that have occurred in the cruising industry, and the recent financial difficulties experienced by several PVOs, the Commission has determined to reevaluate its requirements. Separate rulemakings will be initiated for that purpose. Accordingly, this proceeding can be, and hereby is, discontinued.

DATES: This proceeding is discontinued as of April 22, 2002.

FOR FURTHER INFORMATION CONTACT: Sandra Kusumoto, Director, Bureau of Consumer Complaints and Licensing, Federal Maritime Commission, 800 North Capitol Street, NW, Room 970, Washington, DC 20573-0001, (202) 523-5787, Email: SandraK@fmc.gov

SUPPLEMENTARY INFORMATION: An NPR was published in the Federal Register on March 31, 1994 (59 FR 15149), that proposed to amend 46 CFR part 540 to increase nonperformance coverage for the traveling public by removing the $15 million unearned passenger revenue coverage ceiling, eliminate the self-insurance option from passenger vessel operator section 3 coverage, and adjust the sliding scale provision. After the comments were considered by the Commission, the NPR was held in abeyance pending a further examination of the issues in a formal Inquiry, Docket No. 94-21, Inquiry into Alternative Forms of Financial Responsibility for Nonperformance of Transportation, (59 FR 52133) (“Inquiry”) published October 26, 1994. After assessing the comments in response to the Inquiry, the Commission issued an FNPR on June 26, 1996 (61 FR 33059), to specifically address some of the issues raised in comments to both the NPR and the Inquiry. More recently, the bankruptcies of several PVOs, coupled with the experience of passengers in receiving payment in satisfaction of claims, led to a reevaluation of the rules governing PVO coverage of unearned passenger revenue. As a result, the Commission determined to initiate separate proceedings to take a fresh look at these and related issues. Therefore, this proceeding is hereby discontinued.

By the Commission.
Bryant L. VanBrakle,
Secretary.

[FR Doc. 02-9795 Filed 4-19-02; 8:45 am]

BILLING CODE 6730-01-P